DEPARTMENT OF ENERGY

Federal Energy Regulatory Commission

[Docket No. CP08-420-000]

Algonquin Gas Transmission, LLC; Notice of Availability of the Draft Environmental Impact Statement for the Proposed Hubline/East to West Project

November 7, 2008.

The staff of the Federal Energy Regulatory Commission (Commission or FERC) has prepared the draft Environmental Impact Statement (draft EIS) to address Algonquin Gas Transmission, LLC's (Algonquin) proposed expansion of its natural gas pipeline system in the above-referenced docket. The HubLine/East to West Project (E2W Project or Project) would be located in various counties in Massachusetts, Connecticut, Rhode Island, and New Jersey.

The draft EIS was prepared to satisfy the requirements of the National Environmental Policy Act (NEPA). We ¹ have concluded that if the Project is constructed and operated in accordance with applicable laws and regulations, Algonquin's proposed mitigation, and our additional mitigation measures, it would have limited adverse environmental impact.

¹ “We,” “us,” and “our” refer to the environmental staff of the Federal Energy Regulatory Commission's Office of Energy Projects.

The FERC is the lead agency for the preparation of the EIS. The U.S. Army Corps of Engineers (COE) and the U.S. Environmental Protection Agency (EPA) are cooperating agencies. A cooperating agency has jurisdiction by law or special expertise with respect to environmental impacts involved with the proposal and is involved in the NEPA analysis.

The E2W Project would provide 746,500 dekatherms per day of east to west natural gas transportation service for delivery to high growth markets in the Northeast. The Project would increase the diversity of supply by accessing natural gas from liquefied natural gas projects recently constructed or under construction offshore of Massachusetts and in New Brunswick, Canada and add natural gas supply reliability and security to Algonquin's existing system by eliminating current delivery bottlenecks.

The draft EIS addresses the potential environmental effects of the construction and operation of the following facilities proposed by Algonquin:

• I-10 Extension—construction of approximately 12.9 miles of new 36-inch-diameter pipeline in Norfolk County, Massachusetts;

• Q-1 System Replacement—installation of approximately 7.5 miles of 36-inch-diameter pipeline that would replace a segment of an existing 24-inch-diameter pipeline in Norfolk County, Massachusetts;

• E-3 System Replacement—installation of approximately 11.0 miles of 12-inch-diameter pipeline that would replace a segment of an existing 6- and 4-inch-diameter pipeline in New London County, Connecticut;

• Rehoboth Compressor Station—a new 10,310-horsepower compressor station in Bristol County, Massachusetts;

• Modifications to three existing compressor stations to accommodate bidirectional flow along Algonquin's system including:

○ Burrillville Compressor Station in Providence County, Rhode Island;

○ Cromwell Compressor Station in Middlesex County, Connecticut; and

○ Hanover Compressor Station in Morris County, New Jersey;

• Aboveground over-pressure protection regulation at two existing meter stations (Fore River and Sharon Meter Stations) and at two new regulator stations (beginning and end of the Q-1 System Replacement) along the Algonquin system in Massachusetts; and

• Installation of appurtenant ancillary facilities including four mainline valves, two taps, and two remote blow-off valves; five pig ² launchers; and three pig receivers in Massachusetts and Connecticut.

² A pig is an internal tool that can be used to clean and dry a pipeline and/or to inspect it for damage or corrosion.

Comment Procedures and Public Meetings

Any person wishing to comment on the draft EIS is encouraged to do so. To ensure consideration prior to a Commission decision on the proposal, it is important that your comments be received before December 29, 2008. Please carefully follow the instructions below so that your comments are properly recorded.

For your convenience, there are three methods you can use to submit your comments to the Commission. In all instances, please reference the Project docket number (CP08-420-000) with your submission. The Commission encourages electronic filing of comments and has dedicated eFiling expert staff available to assist you at (202) 502-8258 or efiling@ferc.gov.

(1) You may file your comments electronically by using the Quick Comment feature, which is located on the Commission's internet Web site at http://www.ferc.gov under the link to Documents and Filings. A Quick Comment is an easy method for interested persons to submit text-only comments on a project;

(2) You may file your comments electronically by using the eFiling feature, which is located on the Commission's internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 3, PJ-11.3. Mail your comments promptly, so that they will be received in Washington, DC on or before December 29, 2008.

In addition to or in lieu of sending written comments, we invite you to attend the public comment meetings we will conduct in the Project area. Both meetings will begin at 7 p.m. (Est), and are scheduled as follows:

Date | Location
Wednesday, December 10, 2008 | Stoughton High School Cafeteria, 232 Pearl Street, Stoughton, MA 02072, (781) 344-7001
Thursday, December 11, 2008 | Norwich City Hall Council Chambers, 100 Broadway, Norwich, CT 06360 (860) 823-3732.

These public meetings will be posted on the FERC's calendar located at http://www.ferc.gov/EventCalendar/EventsList.aspx. Interested groups and individuals are encouraged to attend and present written or oral comments on the draft EIS. Transcripts of the meetings will be prepared.

After the comments are reviewed, any significant new issues are investigated, and necessary modifications are made to the draft EIS, a final EIS will be published and distributed. The final EIS will contain our responses to timely comments filed on the draft EIS that are related to environmental issues.

Comments will be considered by the Commission and the cooperating agencies but will not serve to make the commentor a party to the proceeding. Any person seeking to become a party to the proceeding must file a motion to intervene pursuant to Rule 214 of the Commission's Rules of Practice and Procedure (Title 18 CFR Part 385.214). Only intervenors have the right to seek rehearing of the Commission's decision. Further instructions for becoming an intervenor are included in the User's Guide under the “e-filing” link on the Commission's Web site (http://www.ferc.gov). You do not need intervenor status to have your comments considered.

The draft EIS has been placed in the public files of the FERC and is available for distribution and public inspection at: Federal Regulatory Energy Commission, Public Reference Room, 888 First St., NE.; Room 2A, Washington, DC 20426, (202) 502-8371.

A limited number of copies are available from the FERC's Public Reference Room identified above. These copies may be requested in hard copy or as .pdf files on a CD that can be read by a computer with a CD-ROM drive. The draft EIS is also available for viewing on the FERC Internet Web site at http://www.ferc.gov. In addition, copies of the document have been mailed to federal, state, and local government agencies; elected officials; Native American tribes and regional organizations; local libraries and newspapers; intervenors in the FERC's proceeding; and other interested parties (i.e., affected landowners, other interested individuals, and environmental and public interest groups who provided scoping comments or asked to remain on the mailing list). All parties on the mailing list were sent a CD of the draft EIS. A hard copy was also mailed to those who specifically requested one. Hard copies of the draft EIS can be viewed at the libraries in the Project area that are listed in Appendix B of the draft EIS.

Additional information about the Project is available from the Commission's Office of External Affairs at 1-866-208-FERC (3372) or on the FERC Internet Web site (http://www.ferc.gov) using the eLibrary link. Click on the eLibrary link, click on “General Search,” and enter the docket number excluding the last three digits in the Docket Number field (i.e., CP08-420). Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription that allows you to keep track of all formal issuances and submittals in specific dockets. This can reduce the amount of time you spend researching proceedings by automatically providing you with notification of these filings, document summaries, and direct links to the documents. To register for this service, go to the eSubscription link on the FERC Internet Web site.

Information concerning the involvement of the COE is available from Ted Lento at (978) 318-8863. Information concerning the involvement of the EPA is available from Timothy Timmermann at (617) 918-1025.

Kimberly D. Bose,
Secretary.

[FR Doc. E8-27069 Filed 11-13-08; 8:45 am]

BILLING CODE 6717-01-P